SMALL BUSINESS ADMINISTRATION

[Declaration of Disaster #3590]

Commonwealth of Kentucky

As a result of the President's major disaster declaration on June 10, 2004, I find that Bell, Bourbon, Boyle, Breathitt, Breckinridge, Bullitt, Butler, Caldwell, Carroll, Casey, Christian, Clark, Clay, Crittenden, Edmonson, Elliott, Estill, Fayette, Floyd, Franklin, Garrard, Grayson, Hardin, Harlan, Hart, Henderson, Henry, Hopkins, Jefferson, Jessamine, Johnson, Knott, Knox, Laurel, Lawrence, Lee, Leslie, Letcher, Lincoln, Madison, Magoffin, Martin, McLean, Menifee, Montgomery, Morgan, Muhlenberg, Ohio, Oldham, Owen, Owsley, Perry, Pike, Powell, Pulaski, Rockcastle, Rowan, Scott, Shelby, Spencer, Trimble, Union, Webster, Whitley, Wolfe, and Woodford Counties in the Commonwealth of Kentucky constitute a disaster area due to damages caused by severe storms, tornadoes, flooding, and mudslides, and occurring on May 26, 2004 and continuing. Applications for loans for physical damage as a result of this disaster may be filed until the close of business on August 9, 2004 and for economic injury until the close of business on March 10, 2005 at the address listed below or other locally announced locations: U.S. Small Business Administration, Disaster Area 2 Office, One Baltimore Place, Suite 300, Atlanta, GA 30308.

In addition, applications for economic injury loans from small businesses located in the following contiguous counties may be filed until the specified date at the above location: Adair, Anderson, Barren, Bath, Boyd, Carter, Daviess, Fleming, Gallatin, Grant, Green, Greenup, Hancock, Harrison, Jackson, Larue, Lewis, Livingston, Logan, Lyon, Marion, McCreary, Meade, Mercer, Metcalfe, Nelson, Nicholas, Russell, Taylor, Todd, Trigg, Warren, Washington, and Wayne in the Commonwealth of Kentucky; Clark, Floyd, Harrison, Jefferson, Perry, Posey, Spencer, Switzerland, Vanderburg, and Warrick counties in the State of Indiana; Gallatin and Hardin counties in the State of Illinois; Campbell, Claiborne, Montgomery, Scott, and Stewart counties in the State of Tennessee; Buchanan, Dickenson, Lee and Wise counties in the Commonwealth of Virginia; and Mingo and Wayne counties in the State of West Virginia.

The interest rates are:

| Percent
For Physical Damage:
Homeowners with credit available elsewhere | 5.750
Homeowners without credit available elsewhere | 2.875
Businesses with credit available elsewhere | 5.500
Businesses and non-profit organizations without credit available elsewhere | 2.750
Others (including non-profit organizations) with credit available elsewhere | 4.875
For Economic Injury:
Businesses and small agricultural cooperatives without credit available elsewhere | 2.750

The number assigned to this disaster for physical damage is 359011. For economic injury the number is 9ZI200 for Kentucky; 9ZI300 for Indiana; 9ZI400 for Illinois; 9ZI500 for Tennessee; 9ZI600 for Virginia; and 9ZI700 for West Virginia.

(Catalog of Federal Domestic Assistance Program Nos. 59002 and 59008)

Dated: June 14, 2004.
S. George Camp,
Acting Associate Administrator for Disaster Assistance.

[FR Doc. 04-13782 Filed 6-17-04; 8:45 am]

BILLING CODE 8025-01-P